DEPARTMENT OF HEALTH AND HUMAN SERVICES

Health Resources and Services Administration

Maternal and Child Health Federal Set-Aside Program; Special Projects of Regional and National Significance; Integrated Comprehensive Women's Health Services in State MCH Programs Grant Program

AGENCY: Health Resources and Services Administration, HHS.

ACTION: Notice of availability of funds.

SUMMARY: The Health Resources and Services Administration (HRSA) announces that approximately $600,000 in fiscal year (FY) 2002 funds is available to fund up to 6 grants to establish a locus of responsibility for women's health in State MCH Programs. The purpose of this grant program (CFDA Number 93.110AK) is to improve the coordination of women's health services at the State level through the development of linkages and partnerships among community-based organizations, academic institutions, federal, state, and local agencies. Infrastructure development is essential to overcome fragmentation in the delivery of health care services to women, to ensure that they have access to comprehensive, coordinated care that includes, in addition to reproductive health services, preventive services, education and counseling, referrals, and follow up. Eligibility is open to any public or private entity, including an Indian tribe or tribal organization (as defined at 25 U.S.C. 450b). Awards will be made under the program authority of section 501(a)(2) of the Social Security Act, the Maternal and Child Health (MCH) Federal Set-Aside Program (42 USC 701(a)(2)). Funds for these awards were appropriated under Public Law 107-116. Projects will be approved for a three-year period, with awards averaging about $100,000 for the first year. Funding after the initial year is contingent upon the availability of funds.

DATES: Applicants are expected to notify MCHB's Division of Perinatal Systems and Women's Health of their intent to apply by May 10, 2002. The deadline for receipt of applications is June 17, 2002. Applications will be considered “on time” if they are complete and either received on or before the deadline date or postmarked on or before the deadline date. The projected award date is September 1, 2002.

ADDRESSES: To receive a complete application kit, applicants may telephone the HRSA Grants Application Center at 1-877-477-2123 (1-877-HRSA-123) beginning April 26, 2002, or register on-line at: http://www.hrsa.gov/, or by accessing http://www.hrsa.gov/_order3.htm directly. This program uses the standard form PHS 5161-1 (rev. 7/00) for applications (approved under OMB No. 0920-0428). Applicants must use the appropriate Catalog for Federal Domestic Assistance (CFDA) number when requesting application materials. The CFDA is a Government-wide compendium of enumerated Federal programs, projects, services, and activities that provide assistance. The CFDA Number for the Integrated Comprehensive Women's Health Services in State MCH Programs Grant Program is 93.110AK. All applications should be mailed or delivered to: Grants Management Officer (MCHB), HRSA Grants Application Center, 901 Russell Avenue, Suite 450, Gaithersburg, Maryland, 20879, telephone: 1-877-HRSA-123 (1-877-477-2123), e-mail: hrsagac@hrsa.gov.

This application guidance and the required forms for the Integrated Comprehensive Women's Health Services in State MCH Programs Grant Program may be downloaded in either WordPerfect 6.1 or Adobe Acrobat format (.pdf) from the MCHB home page at http://www.mchb.hrsa.gov/. Please contact Joni Johns at 301-443-2088 or jjohns@hrsa.gov if you need technical assistance in accessing the MCHB home page via the Internet.

FOR FURTHER INFORMATION CONTACT: Lisa R. King, M.A., 301-443-9739, e-mail: lking@hrsa.gov, (for questions specific to project activities of the program, program objectives, or the Letter of Intent described above); and Curtis Colston, 301-443-3438, e-mail: ccolston@hrsa.gov, (for grants policy, budgetary, and business questions).

SUPPLEMENTARY INFORMATION

Integrated Comprehensive Women's Health Services in State MCH Programs—Background and Objectives

Women's care is fragmented in its delivery, particularly with regard to the separation of reproductive and non-reproductive services. Women may have access to reproductive health care but not to comprehensive, coordinated care that includes preventive services, education and counseling, appropriate referrals and follow-up.

Fragmentation and lack of access to comprehensive, coordinated care is an even greater problem for minority and underserved women, many of whom do not have health insurance. In fact, women without health insurance are less likely to receive preventive care services than insured women. Yet, these women suffer disproportionately from disparities in health status, and have the greatest need for such services.

Adopting a broader approach to primary care for women could also be an efficient means of improving both women's health status and birth outcomes. Research suggests that infant and child health and development are strongly affected by women's preconceptional health status and health behaviors, and by women's general physical and psychological well-being in the immediate postpartum period and beyond. This broader approach to women's health also offers the potential to expand knowledge and practice in many areas of health promotion and disease prevention for women, children, and families.

Many women's health experts have long advocated an expanded concept of women's health beyond reproductive health issues. Under the expanded definition being proposed, women's health would include both preservation of wellness and prevention of illness. This broader women's health framework (1) includes the screening, diagnosis and management of conditions that affect women exclusively, disproportionately, or manifest themselves differently in women, such as breast and cervical cancer; (2) addresses risky behaviors and environments that threaten the well-being of women such as injury and violence, and alcohol or substance abuse; and (3) addresses factors that affect women during their reproductive years and beyond.

State Title V programs are among the logical partners to improve systems of care for women. In many States, Title V programs have already begun to provide a variety of services for women beyond pregnancy-related care, including family planning services, preconception care, breast and cervical cancer screening, screening and treatment of sexually transmitted diseases and smoking cessation programs, but more needs to be done. Lifestyle programs such as nutrition, exercise, substance abuse prevention, domestic violence programs, and screening and treatment of depression are included in some Title V programs, but are not as well developed. Other areas in need of development include rape prevention/crisis services, developing a women's health agenda, women's preventive health services, and domestic violence. Encouragingly, Title V programs have begun to demonstrate recognition of the gaps in services and are already seeking ways to expand the service mix and provide continuity of care for women.

Infrastructure development is essential to the creation of a health care system that has the capacity to provide more comprehensive, gender-specific and culturally-competent health care for women, taking into account their different languages, cultures, and the complex and interrelated medical and psychosocial issues that affect them. Development of effective linkages should result in reduced fragmentation, enhanced coordination and cooperation across women's health programs, ensure access, and provide support for infrastructure development in State MCH programs.

Authorization

Awards will be made under the program authority of section 501(a)(2) of the Social Security Act, the Maternal and Child Health (MCH) Federal Set-Aside Program (42 U.S.C. 701(a)((2)).

Purpose

The purpose of this program is to expand capacity in State MCH programs to improve women's health by establishing a locus of responsibility (or focal point) for the coordination of women's health through the development of linkages and partnership building with community-based organizations, academic institutions, federal, state, and local agencies. This focal point will also identify gaps and create an infrastructure for women's health services. Linkages will be created across programs, e.g., women's health, family planning, breast and cervical cancer, domestic violence/sexual assault, mental health, chronic disease, oral health, perinatal health, etc. Potential partners include organizations such as AMCHP, Association of Women's Health Obstetric and Neonatal Nurses (AWHONN), National Centers of Excellence in Women's Health, provider organizations (e.g., American College of Obstetricians and Gynecologists, American College of Nurse Midwives, Nurse Practitioners in Women's Health), private organizations, Federal agencies (e.g., HHS Office on Women's Health, Bureau of Primary Health Care's Office of Minority and Women's Health), state and local agencies, and other MCH provider organizations dedicated to promoting a women's health agenda and advancing the field of women's health through the delivery of coordinated services and systems, particularly in relation to health promotion/risk reduction behaviors.

The resulting integrated and coordinated system of care will facilitate the provision of comprehensive and continuous health services to women, particularly those who have limited access to preventive health services. The intent is to improve the overall health of women, children and families.

Eligibility

Any public or private entity, including an Indian tribe or tribal organization (as defined at 25 U.S.C. 450b) is eligible to apply. State and Territorial MCH Title V agencies, tribal health agencies or their designees are especially encouraged to apply. Under the President's initiative, faith-based organizations that are otherwise eligible and believe they can contribute to HRSA's program objectives are urged to consider this initiative. There will be only one funded application per State.

Funding Level/Project Period

Approximately $600,000 is available to support the award of 6 grants averaging approximately $100,000 each in FY 2002, with a project period of up to three years. Funding beyond FY 2002 is contingent upon satisfactory performance, the availability of funds, and program priorities. The initial budget period is expected to be 12 months, with subsequent budget periods being 12 months each.

Review Criteria

In general, applications for this grant program will be reviewed on the basis of the extent to which they address the following criteria:

(1) The extent to which the project will contribute to the advancement of maternal and child health and/or improvement of the health of children with special health care needs;

(2) The extent to which the project is responsive to program objectives, requirements, priorities and/or review criteria for specific project categories, as published in program announcements or guidance materials;

(3) Clarity and appropriateness of the budget and coordinated budget narrative;

(4) The extent to which the project personnel are well qualified by training and/or experience for their roles in the project and the applicant organization has adequate facilities and personnel;

(5) Clarity and strength of the letters of support or collaboration, particularly from the State Title V agency; and

(6) The extent to which, insofar as practicable, the proposed activities, if well executed, are capable of attaining project objectives.

The final review criteria used to review and rank applications for the Integrated Comprehensive Women's Health Services in State MCH Programs grant program are included in the application kit. Applicants should pay strict attention to addressing these criteria, as they are the basis upon which their applications will be judged.

Paperwork Reduction Act

OMB approval for any data collection in connection with this cooperative agreement will be sought, as required under the Paperwork Reduction Act of 1995.

Public Health System Reporting Requirements

This program is subject to the Public Health System Reporting Requirements (approved under OMB No. 0937-0195). Under these requirements, the community-based non-governmental applicant must prepare and submit a Public Health System Impact Statement (PHSIS). The PHSIS is intended to provide information to State and local health officials to keep them apprized of proposed health services grant applications submitted by community-based non-governmental organizations within their jurisdictions.

Community-based non-governmental applicants are required to submit the following information to the head of the appropriate State and local health agencies in the area(s) to be impacted no later than the Federal application receipt due date:

(a) A copy of the face page of the application (SF 424).

(b) A summary of the project (PHSIS), not to exceed one page, which provides:

(1) A description of the population to be served.

(2) A summary of the services to be provided.

(3) A description of the coordination planned with the appropriate State and local health agencies.

Executive Order 12372

The MCH Federal Set-Aside program has been determined to be a program which is not subject to the provisions of Executive Order 12372 concerning intergovernmental review of Federal programs.

Dated: April 12, 2002.
Elizabeth M. Duke,
Administrator.

[FR Doc. 02-9618 Filed 4-18-02; 8:45 am]

BILLING CODE 4165-15-P